LEGAL SERVICES CORPORATION

Sunshine Act Meeting of the Board of Directors

TIME AND DATE: The Board of Directors of the Legal Services Corporation will meet telephonically on November 23, 2010. The meeting will begin at 11:30 a.m., Eastern Time, and continue until conclusion of the Board's agenda.

LOCATION: Legal Services Corporation, 3333 K Street, NW., Washington, DC 20007, F. William McCalpin Conference Center, 3rd Floor.

PUBLIC OBSERVATION: For all meetings and portions thereof open to public observation, members of the public who wish to listen to the proceedings may do so by following the telephone call-in directions provided below. Those calling in are asked to keep your telephone muted to eliminate background noises. From time to time the Chairman may solicit comments from the public.

Call-in Directions for Open Session(s)

• Call toll-free number: 1-(866) 451-4981;

• When prompted, enter the following numeric pass code: 5907707348;

• When connected to the call, please “MUTE” your telephone immediately.

STATUS OF MEETING: Open, except that the Board will also be briefed on Management's plans to address reported problems at an LSC grantee and the status of Management's response to the LSC Inspector General's audit report on the Technology Initiatives Grants (“TIG”) program.¹/

¹ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(6) ², (7) ³ and (9)(B) ⁴, and the corresponding provisions of the Legal Services Corporation's implementing regulation, 45 CFR 1622.5(e), (f) and (g), will not be available for public inspection. A copy of the General Counsel's Certification that in his opinion the closing is authorized by law will be available upon request.

² 45 CFR 1622.5(e) protects information the disclosure of which would constitute a clearly unwarranted invasion of personal privacy.

³ 45 CFR 1622.5(f) protects from disclosure investigatory records that might interfere with enforcement proceedings, deprive a person of due process, disclose a confidential source, disclose investigative procedures, or endanger the life and safety of law enforcement personnel.

⁴ 45 CFR 1622.5(g) protects information the premature disclosure of which would in the case of any agency, be likely to significantly frustrate implementation of a proposed agency action.

Matters To Be Considered

Open Session

1. Approval of the agenda.

2. Approval of minutes of the Board's open session meeting of October 19, 2010.

3. Consider and act on Board of Directors' proposed comments on the Inspector General's Semiannual Report to Congress for the period of April 1, 2010 through September 30, 2010.

4. Public comment.

5. Consider and act on whether to authorize an executive session of the Board to address items listed below under Closed Session.

Closed Session

6. Approval of minutes of the Board's closed session meeting of November 5, 2010.

7. Briefing on Management's plans for addressing reported problems at one of LSC's grantees.

8. Briefing on status of Management's response to the Inspector General's audit report regarding the Technology Initiatives Grants (“TIG”) program.

9. Consider and act on other business.

10. Consider and act on motion to adjourn meeting.

CONTACT PERSON FOR INFORMATION: Katherine Ward, Executive Assistant to the Vice President for Legal Affairs & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine at (202) 295-1500 or FR_NOTICE_QUESTIONS@lsc.gov.

Dated: November 16, 2010.
Patricia D. Batie,
Corporate Secretary.

[FR Doc. 2010-29264 Filed 11-16-10; 4:15 pm]

BILLING CODE 7050-01-P